DEPARTMENT OF ENERGY

Federal Energy Regulatory Commission

Combined Notice of Filings #2

September 28, 2015.

Take notice that the Commission received the following electric rate filings:

Docket Numbers: ER13-1991-004; ER13-1992-004.

Applicants: Desert Sunlight 250, LLC, Desert Sunlight 300, LLC.

Description: Supplement to August 6, 2015 Notice of Change in Status of Desert Sunlight 250, LLC and Desert Sunlight 300, LLC.

Filed Date: 9/24/15.

Accession Number: 20150924-5215.

Comments Due: 5 p.m. ET 10/15/15.

Docket Numbers: ER15-2364-001.

Applicants: Midcontinent Independent System Operator, Inc.

Description: Tariff Amendment: 2015-09-28_Prairie Power Attachment O Amendment Filing to be effective 1/1/2016.

Filed Date: 9/28/15.

Accession Number: 20150928-5194.

Comments Due: 5 p.m. ET 10/19/15.

Docket Numbers: ER15-2734-000.

Applicants: ISO New England Inc.

Description: § 205(d) Rate Filing: Braintree Large Generator Interconnection Agreement—LGIA-ISONE/BLED-15-01 to be effective 8/27/2015.

Filed Date: 9/28/15.

Accession Number: 20150928-5293.

Comments Due: 5 p.m. ET 10/19/15.

Docket Numbers: ER15-2735-000.

Applicants: Garrison Energy Center LLC.

Description: § 205(d) Rate Filing: Rate Schedule FERC No. 1 to be effective 11/1/2015.

Filed Date: 9/28/15.

Accession Number: 20150928-5296.

Comments Due: 5 p.m. ET 10/19/15.

The filings are accessible in the Commission's eLibrary system by clicking on the links or querying the docket number.

Any person desiring to intervene or protest in any of the above proceedings must file in accordance with Rules 211 and 214 of the Commission's Regulations (18 CFR 385.211 and § 385.214) on or before 5:00 p.m. Eastern time on the specified comment date. Protests may be considered, but intervention is necessary to become a party to the proceedig.

eFiling is encouraged. More detailed information relating to filing requirements, interventions, protests, service, and qualifying facilities filings can be found at: http://www.ferc.gov/docs-filing/efiling/filing-req.pdf. For other information, call (866) 208-3676 (toll free). For TTY, call (202) 502-8659.

Dated: September 28, 2015.
Nathaniel J. Davis, Sr.,
Deputy Secretary.

[FR Doc. 2015-25124 Filed 10-1-15; 8:45 am]

BILLING CODE 6717-01-P